DEPARTMENT OF TRANSPORTATION

Federal Aviation Administration

14 CFR Part 39

[Docket No. 2002-NM-105-AD]

RIN 2120-AA64

Airworthiness Directives; McDonnell Douglas Model DC-9-20, DC-9-30, DC-9-40, and DC-9-50 Series Airplanes; Model DC-9-14, DC-9-15, and DC-9-15F Airplanes; Model DC-9-81 (MD-81), DC-9-82 (MD-82), DC-9-83 (MD-83), and DC-9-87 (MD-87) Airplanes; Model MD-88 Airplanes; and Model MD-90-30 Airplanes

AGENCY: Federal Aviation Administration (FAA), Department of Transportation (DOT).

ACTION: Supplemental notice of proposed rulemaking; reopening of comment period.

SUMMARY: This document revises an earlier proposed airworthiness directive (AD), applicable to certain McDonnell Douglas transport category airplanes, that would have required an inspection of the upper lock link assembly of the nose landing gear (NLG) to determine the manufacturer, repetitive eddy current inspections for cracking, and modification or replacement if necessary. That proposal also would have provided for optional terminating action for the repetitive inspections. This new action revises the proposed rule by adding new airplanes to the applicability and adding related concurrent actions. The actions specified by this new proposed AD are intended to prevent fracture of the upper lock link assembly of the NLG, which could result in failure of the NLG to extend following a gear-down selection, and consequent gear-up landing, structural damage, and possible injury to passengers and crew. This action is intended to address the identified unsafe condition.

DATES: Comments must be received by July 11, 2005.

ADDRESSES: Submit comments in triplicate to the Federal Aviation Administration (FAA), Transport Airplane Directorate, ANM-114, Attention: Rules Docket No. 2002-NM-105-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-105-AD” in the subject line and need not be submitted in triplicate. Comments sent via the Internet as attached electronic files must be formatted in Microsoft Word 97 or 2000 or ASCII text.

The service information referenced in the proposed rule may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Mike Lee, Aerospace Engineer, Airframe Branch, ANM-120L, FAA, Los Angeles Aircraft Certification Office, 3960 Paramount Boulevard, Lakewood, California 90712-4137; telephone (562) 627-5325; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-105-AD.” The postcard will be date stamped and returned to the commenter.

Availability of NPRMs

Any person may obtain a copy of this NPRM by submitting a request to the FAA, Transport Airplane Directorate, ANM-114, Attention: Rules Docket No. 2002-NM-105-AD, 1601 Lind Avenue, SW., Renton, Washington 98055-4056.

Discussion

A proposal to amend part 39 of the Federal Aviation Regulations (14 CFR part 39) to add an airworthiness directive (AD), applicable to certain McDonnell Douglas transport category airplanes, was published as a notice of proposed rulemaking (NPRM) in the Federal Register on August 27, 2003 (68 FR 51518). That NPRM would have required an inspection of the upper lock link assembly of the nose landing gear (NLG) to determine the manufacturer, repetitive eddy current inspections for cracking, and modification or replacement if necessary. That NPRM also would have provided for optional terminating action for the repetitive inspections. That NPRM was prompted by a report indicating that the flightcrew was unable to extend the nose landing gear (NLG) during landing due to a fractured upper lock link assembly of the NLG. That condition, if not corrected, could result in failure of the NLG to extend following a gear-down selection, and consequent gear-up landing, structural damage, and possible injury to passengers and crew.

Related AD

On February 11, 2002, we issued AD 2002-04-01, amendment 39-12658 (67 FR 7949, February 21, 2002), which is applicable to certain McDonnell Douglas Model DC-9, DC-9-80, and C-9 series airplanes; Model MD-88 airplanes; and Model MD-90 airplanes. Since the issuance of that AD, we have redesignated the applicability of certain airplanes to reflect the model designations as published in the most recent type certificate data sheets. That AD requires a visual check to determine the part and serial numbers of the upper lock link assembly of the NLG; repetitive inspections of certain upper lock link assemblies to detect fatigue cracking; and modification of the NLG. That AD also provides for terminating action for the repetitive inspections. McDonnell Douglas Service Bulletin DC9-32-315, dated March 11, 1999; Boeing Service Bulletin DC9-32-315, Revision 01, dated October 24, 2000; McDonnell Douglas Service Bulletin MD90-32-033, dated March 11, 1999; and Boeing Service Bulletin MD90-32-033, Revision 01, dated October 24, 2000; are referenced as appropriate sources of service information for accomplishing certain required actions.

Comments

Due consideration has been given to the comments received in response to the original NPRM.

Support for Original NPRM

Two commenters generally agree with the original NPRM.

Request to Reference Revision 01 of Boeing Alert Service Bulletin DC9-32A340

Several commenters state that Boeing Alert Service Bulletin DC9-32A340, Revision 01, dated April 29, 2003, has been issued. One commenter requests that Revision 01 of the service bulletin be referenced instead of the original issue of the service bulletin, dated November 14, 2001. Another commenter requests that doing the proposed actions in accordance with Revision 01 of the service bulletin be considered an alternative method of compliance.

We agree with the commenters' request to reference Boeing Alert Service Bulletin DC9-32A340, Revision 01, dated April 29, 2003, as the appropriate source of service information for doing certain actions specified in the supplemental NPRM. The procedures in Revision 01 of the service bulletin are essentially the same as those in the original issue of the service bulletin. However, this supplemental NPRM has been changed from the original NPRM because of the following reasons:

• Revision 01 adds two airplanes to the applicability. We have revised the applicability statement of this supplemental NPRM to refer to Revision 01. We have also revised the Cost Impact section of the supplemental NPRM accordingly.

• We have added text to paragraph (a) of the supplemental NPRM to clarify that although the Accomplishment Instructions of the referenced service bulletins describe procedures for submitting certain information to the manufacturer, this supplemental NPRM would not require those actions. We do not need this information from operators.

• The original issue of the service bulletin refers to a “modification.” However, for the same actions, Revision 01 of the service bulletin refers to “refinishing” an uncracked upper lock link assembly, related investigative actions, and corrective action if necessary. The related investigative actions include doing high frequency eddy current (HFEC) inspections for cracking of the upper lock link assembly, measuring link height for a 1.045-inches minimum, and doing a fluorescent dye penetrant inspection of the upper lock link assembly for cracking. The corrective action consists of replacing the upper lock link assembly with a serviceable upper lock link assembly. We have changed the language accordingly in paragraph (e) of the supplemental NPRM (specified as paragraph (d) of the original NPRM).

• Revision 01 of the service bulletin specifies that Boeing Service Bulletin MD90-32-033 is a concurrent requirement. McDonnell Douglas Service Bulletin MD90-32-033, dated March 11, 1999; and Boeing Service Bulletin MD90-32-033, Revision 01, dated October 34, 2000; are referenced as appropriate sources of service information for accomplishing the actions required by AD 2002-04-01 for McDonnell Douglas MD-90 airplanes. We have added these concurrent requirements to paragraph (f) of the supplemental NPRM.

• We have added a new paragraph (g) to the supplemental NPRM to state that actions accomplished according to the original issue of the service bulletin are acceptable for compliance with certain proposed requirements of this supplemental NPRM.

• We have added a new paragraph (h) to the supplemental NPRM to specify that certain parts must not be installed as of the effective date of this AD.

Request To Include Boeing Service Bulletin MD90-32A054

One commenter states that Boeing Service Bulletin MD90-32A054, Revision 01, dated April 29, 2003 (for Model MD-90-30 airplanes), was not included in the original NPRM. The commenter states the service bulletin covers the same topic as Boeing Alert Service Bulletin DC9-32A340, dated November 14, 2001 (which was cited as an appropriate source of service information for the actions proposed in the original NPRM for certain other models), and believes service bulletin MD90-32A054 may have been overlooked or may be part of future rulemaking.

We concur that Boeing Alert Service Bulletin MD90-32A054, Revision 01, dated April 29, 2003 (for Model MD-90-30 airplanes), addresses the same identified unsafe condition addressed by Boeing Alert Service Bulletin DC9-32A340, Revision 01, dated April 29, 2003 (for Model DC-9-20, DC-9-30, DC-9-40, and DC-9-50 series airplanes; Model DC-9-14, DC-9-15, and DC-9-15F airplanes; Model DC-9-81 (MD-81), DC-9-82 (MD-82), DC-9-83 (MD-83), and DC-9-87 (MD-87) airplanes; and Model MD-88 airplanes); which is cited as an appropriate source of service information for doing certain actions proposed by the supplemental NPRM for the applicable models. We have included Boeing Alert Service Bulletin MD90-32A054, Revision 01, dated April 29, 2003, in the supplemental NPRM as an appropriate source of service information for doing certain actions proposed by the supplemental NPRM for Model MD-90-30 airplanes.

We have also added Model MD-90-30 airplanes to the applicability of the supplemental NPRM, and we have revised the Cost Impact section of the supplemental NPRM accordingly. There are approximately 115 Model MD-90-30 airplanes in the worldwide fleet and 22 Model MD-90-30 airplanes of U.S. registry that would be affected by the actions in Boeing Alert Service Bulletin MD90-32A054.

Request To Change Applicability

Two commenters request that the applicability in the original NPRM be changed from Model “DC-10-40” and “DC-10-50” to “DC-9-40” and DC-9-50.” The commenters contend these are typographical errors.

We agree with the commenters that there are two typographical errors in the original NPRM. While the applicability statement of the original NPRM is correct, the preamble should have listed Models DC-9-40 and DC-9-50 instead of Models DC-10-40 and DC-10-50. We have corrected the models specified in the preamble of the supplemental NPRM accordingly.

Request To Remove Reference to an “F” Suffix

Several commenters request that the reference to an “F” suffix in paragraph (a) of the original NPRM be removed. The commenters state that parts identified with an “F” suffix are not manufactured by Ready Machine and Manufacturing Company. Two commenters point out that the Note in section 3.B.2. of Boeing Service Bulletin DC9-32A340, dated November 14, 2001, states that “upper lock link assemblies manufactured by Ready Machine and Manufacturing Company can be identified by the letter “RM” adjacent to the serial numbers” and that the “inspection also applies to existing parts identified with an “F” suffix per Service Bulletin DC9-32-315,” which one commenter notes is already required by AD 2002-04-01.

We agree with the commenters and have removed the reference to “F” suffix from paragraph (b) of the supplemental NPRM (specified as paragraph (a) in the original NPRM). Only parts identified by the letters “RM” adjacent to the serial numbers are manufactured by Ready Machine and Manufacturing Company.

Request To Revise Wording in Paragraphs (b)(2) and (c)(2)

One commenter requests that the wording be revised in paragraphs (b)(2) and (c)(2) of the original NPRM by removing the phrase “modify or.”

We agree with the commenter's request. If cracking is found, the upper lock link assembly cannot be modified, only replaced with a new or serviceable upper lock link assembly. We have consolidated the proposed requirements of paragraphs (b)(2) and (c)(2) of the original NPRM into paragraph (d) of the supplemental NPRM and revised paragraph (d) of the supplemental NPRM accordingly.

Request To Allow Records Review

One commenter requests that a records review be allowed as an alternative to the visual inspection specified in paragraph (a) of the original NPRM. The commenter states that it tracks the upper lock link assembly by part number and serial number and would be able to determine if the part was manufactured by Ready Machine and Manufacturing Company.

We agree with the commenter that instead of the inspection specified in paragraph (b) of the supplemental NPRM (specified as paragraph (a) of the original NPRM), a review of airplane maintenance records is acceptable if the manufacturer of the upper lock link assembly can be positively determined from that review. We have revised paragraph (b) of the supplemental NPRM accordingly.

Request for Reason for Visual Inspection

One commenter requests that a reason be provided as to why the visual inspection, which has a compliance time of within 2,500 flight cycles, was included in the original NPRM. The commenter states that the service bulletin indicates that the HFEC inspection should be done within 2,500 flight cycles for Ready Machine and Manufacturing Company parts and within 3,500 flight cycles for parts that are not Ready Machine and Manufacturing Company parts. Therefore, the commenter states if it is known through a serial number data system that parts are not Ready Machine and Manufacturing Company parts, then the HFEC should be done within 3,500 flight cycles instead of within 2,500 flight cycles as required by the original NPRM.

We agree that clarification is needed. We added the inspection specified in paragraph (b) of the supplemental NPRM (specified as paragraph (a) of the original NPRM) in order to ensure the HFEC inspections specified in paragraphs (b)(1) and (b)(2) of the supplemental NPRM (specified as paragraphs (b) and (c) in the original NPRM) are done at the appropriate time. The service bulletin specifies different compliance times for the HFEC inspections based on the type of part. In order to address the identified unsafe condition at the appropriate time, it is necessary to first determine the type of part. As stated in the response to a previous comment, we have also added a records review as an option to doing the general visual inspection specified in paragraph (b) of the supplemental NPRM.

Request To Extend Compliance Time

One commenter requests that the compliance time of the initial visual inspection and the HFEC inspection specified in paragraphs (a) and (b) of the original NPRM be extended from 2,500 flight cycles to 5,000 flight cycles. The commenter states that the new compliance time would align with the compliance time in AD 2002-04-01. The commenter notes that its request is based on no findings of a cracked upper lock link after inspections of 76 link assemblies.

We do not agree to extend the compliance times specified in paragraphs (b) and (b)(1) of the supplemental NPRM (specified as paragraphs (a) and (b) in the original NPRM). In developing an appropriate compliance time, we considered the urgency associated with the subject unsafe condition, the manufacturer's recommendation of inspecting Ready Machine and Manufacturing Company parts within 2,500 flight cycles, the availability of required parts, and the practical aspect of accomplishing the required inspections within a period of time that corresponds to the normal scheduled maintenance for most affected operators. In addition, the commenter did not provide sufficient data to substantiate that extending the compliance time would provide an acceptable level of safety. However, according to the provisions of paragraph (h) of the supplemental NPRM, we may approve requests to adjust the compliance time if the request includes data that prove that the new compliance time would provide an acceptable level of safety. No change to the supplemental NPRM is necessary in this regard.

Conclusion

Since certain changes expand the scope of the originally proposed rule, the FAA has determined that it is necessary to reopen the comment period to provide additional opportunity for public comment.

Cost Impact

There are approximately 2,021 airplanes of the affected design in the worldwide fleet. The FAA estimates that 1,212 airplanes of U.S. registry would be affected by this proposed AD.

It would take approximately 1 work hour per airplane to accomplish the proposed general visual inspection, at an average labor rate of $65 per work hour. Based on these figures, the cost impact of the proposed general visual inspection on U.S. operators is estimated to be $78,780, or $65 per airplane.

It would take approximately 1 work hour per airplane to accomplish the proposed HFEC inspection, at an average labor rate of $65 per work hour. Based on these figures, the cost impact of the proposed HFEC inspection on U.S. operators is estimated to be $78,780, or $65 per airplane, per inspection cycle.

It would take approximately 8 work hours per airplane to accomplish the proposed replacement, if done, at an average labor rate of $65 per work hour. Required parts would cost approximately $6,346 for a new part. Based on these figures, the cost impact of the proposed replacement on U.S. operators is estimated to be $6,866 per airplane.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the National Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2002-NM-105-AD.

Applicability: This AD applies to airplanes, certificated in any category, as identified in Table 1 of this AD.

Table 1.—Applicability
Model— | As Identified in—
DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes; and MD-88 airplanes | Boeing Alert Service Bulletin DC9-32A340, Revision 01, dated April 29, 2003.
MD-90-30 airplanes | Boeing Alert Service Bulletin MD90-32A054, Revision 01, dated April 29, 2003.

Compliance: Required as indicated, unless accomplished previously.

To prevent fracture of the upper lock link assembly of the nose landing gear (NLG), which could result in failure of the NLG to extend following a gear-down selection, and consequent gear-up landing, structural damage, and possible injury to passengers and crew; accomplish the following:

Service Bulletin References

(a) The term “service bulletin,” as used in this AD, means the Accomplishment Instructions of the service bulletin specified in paragraph (a)(1) or (a)(2) of this AD, as applicable. Although the service bulletins referenced in this AD specify to submit information to the manufacturer, this AD does not include such a requirement.

(1) For Model DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes; and MD-88 airplanes: Boeing Alert Service Bulletin DC9-32A340, Revision 01, excluding Appendix A, dated April 29, 2003; and

(2) For Model MD-90-30 airplanes: Boeing Alert Service Bulletin MD90-32A054, Revision 01, excluding Appendix A, dated April 29, 2003.

Inspections

(b) Within 2,500 flight cycles after the effective date of this AD: Do a general visual inspection to determine if the upper lock link assembly of the NLG was manufactured by Ready Machine and Manufacturing Company (this can be identified by the letters “RM” adjacent to the serial number), in accordance with the service bulletin. Instead of the inspection, a review of airplane maintenance records is acceptable if the manufacturer of the upper lock link assembly can be positively determined from that review.

Note 1: For the purposes of this AD, a general visual inspection is: “A visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

(1) If the upper lock link assembly of the NLG was manufactured by Ready Machine and Manufacturing Company: Within 2,500 flight cycles after the effective date of this AD, do a high frequency eddy current (HFEC) inspection of the assembly for cracking, in accordance with Condition 1 of the service bulletin.

(2) If the upper lock link assembly was not manufactured by Ready Machine and Manufacturing Company: Within 3,500 flight cycles after the effective date of this AD, do a HFEC inspection of the assembly for cracking, in accordance with Condition 2 of the service bulletin.

No Cracking Found

(c) If no cracking is found during any HFEC inspection required by paragraph (b) of this AD, repeat the HFEC inspection specified in paragraph (b) of this AD at intervals not to exceed 4,000 flight cycles until accomplishment of either paragraph (e)(1) or (e)(2) of this AD.

Cracking Found

(d) If any cracking is found during any inspection required by paragraph (b) or (c) of this AD, before further flight, do the replacement of the upper lock link assembly specified in either paragraph (e)(1) or (e)(2) of this AD. Accomplishment of this action constitutes terminating action for the requirements of this AD.

Optional Terminating Action

(e) Doing the actions specified in either paragraph (e)(1) or (e)(2) of this AD constitutes terminating action for the requirements of this AD.

(1) Replace the upper lock link assembly of the NLG with an upper lock link assembly modified in accordance with the service bulletin. The modification includes refinishing an uncracked upper lock link assembly, and doing related investigative and corrective actions, in accordance with the service bulletin.

(2) Replace the cracked upper lock link assembly of the NLG with a new or serviceable upper lock link assembly in accordance with the service bulletin.

Prior or Concurrent Actions Required to Be Done With Paragraph (b) of This AD

(f) Before or concurrent with the actions required by paragraph (b)(1) or (b)(2) of this AD, as applicable, do the actions specified in Table 2 of this AD.

Table 2.—Prior or Concurrent Actions
Do These Actions— | Required by— | In Accordance with—
Replace the lock link with a new upper lock link, a reidentified upper lock link, or a new upper lock link assembly, and do any applicable inspections | AD 2002-04-01, amendment 39-12658 | McDonnell Douglas Service Bulletin DC9-32-315, dated March 11, 1999, or Boeing Service Bulletin DC9-32-315, Revision 01, dated October 24, 2000; or McDonnell Douglas Service Bulletin MD90-32-033, dated March 11, 1999, or Boeing Service MD90-32-033, Revision 01, dated October 24, 2000; as applicable.

Actions Accomplished In Accordance with Previous Issues of Service Bulletins

(g) Actions accomplished before the effective date of this AD in accordance with Boeing Alert Service Bulletin DC9-32A340; and Boeing Alert Service Bulletin MD90-32A054; both excluding Appendix A, both dated November 14, 2001; are considered acceptable for compliance with the corresponding actions specified in this AD.

Parts Installation

(h) As of the effective date of this AD, no person may install, on any airplane, any part specified in paragraphs (h)(1) and (h)(2) of this AD, unless it has been modified according to the service bulletin.

(1) Any upper lock link assembly, part number 5965065-1, 5965065-501, 5965065-503, or 5965065-507.

(2) Any upper lock link, part number 3914464-1, 3914464-501, 3914464-503, or 3914464-507.

Alternative Methods of Compliance

(i) In accordance with 14 CFR 39.19, the Manager, Los Angeles Aircraft Certification Office, FAA, is authorized to approve alternative methods of compliance for this AD.

Issued in Renton, Washington, on May 27, 2005.
Ali Bahrami,
Manager, Transport Airplane Directorate, Aircraft Certification Service.

[FR Doc. 05-11710 Filed 6-13-05; 8:45 am]

BILLING CODE 4910-13-P